FEDERAL DEPOSIT INSURANCE CORPORATION

Sunshine Act Meetings; Notice of Meeting Held With Less Than Seven Days Advance Notice

TIME AND DATE: 10:24 a.m. on Tuesday, December 16, 2025.

PLACE: The meeting was held in the Board Room on the sixth floor of the FDIC Building located at 550 17th Street NW, Washington, DC.

STATUS: Closed.

MATTERS TO BE CONSIDERED: The Board of Directors of the Federal Deposit Insurance Corporation met to consider matters related to the Corporation's resolution, supervision, and corporate activities. In calling the meeting, the Board determined by majority vote, on motion of Acting Chairman Travis Hill, seconded by Director Jonathan V. Gould (Comptroller of the Currency), that Corporation business required its consideration of the matters which were to be the subject of this meeting on less than seven days' notice to the public; that no earlier notice of the meeting was practicable; that the public interest did not require consideration of the matters in a meeting open to public observation; and that the matters could be considered in a closed meeting by authority of subsections (c)(2), (c)(4), (c)(6), (c)(8), (c)(9)(A), and (c)(9)(B) of the “Government in the Sunshine Act” (5 U.S.C. 552b (c)(2), (c)(4), (c)(6), (c)(8), (c)(9)(A), and (c)(9)(B)).

CONTACT PERSON FOR MORE INFORMATION: For further information, please contact Debra A. Decker, Executive Secretary, FDIC, at FDICBoardMatters@fdic.gov.

Dated this the 17th day of December, 2025.
Federal Deposit Insurance Corporation.
Debra A. Decker,
Executive Secretary.

[FR Doc. 2025-23449 Filed 12-17-25; 4:15 pm]

BILLING CODE 6714-01-P